DEPARTMENT OF JUSTICE

Antitrust Division

Notice Pursuant to the National Cooperative Research and Production Act of 1993—Allseen Alliance, Inc.

Notice is hereby given that, on December 18, 2015, pursuant to Section 6(a) of the National Cooperative Research and Production Act of 1993, 15 U.S.C. 4301 et seq. (“the Act”), AllSeen Alliance, Inc. (“AllSeen Alliance”) has filed written notifications simultaneously with the Attorney General and the Federal Trade Commission disclosing changes in its membership. The notifications were filed for the purpose of extending the Act's provisions limiting the recovery of antitrust plaintiffs to actual damages under specified circumstances. Specifically, Midea Group Co., Ltd., Foshan City, Guangdong, PEOPLE'S REPUBLIC OF CHINA; Initial State, Nashville, TN; Dropbeats Technology Co., Ltd., Pudong New District, Shanghai, PEOPLE'S REPUBLIC OF CHINA; Rivetry, Portland, OR; Digital Concepts GmbH, Stuttgart, GERMANY; SoftAtHome, Nanterre, FRANCE; Evey Innovation, Montreal, Quebec City, CANADA; Hager Electro GmbH & Co. KG, Blieskastel, GERMANY; NXP B.V., Eindhoven, THE NETHERLANDS; Avempace, Nabeul, TUNISIA; ABHRIO LLC, Naperville, IL; Cozify Oy, Espoo, FINLAND, Elite Crest Technologies, Sammamish, WA; Argenox Technologies LLC, McKinney, TX; CastleOS Software, LLC, Johnston, RI; Netbeast, Munchen, Deutschland, GERMANY; and Ready for Sky LLP, Geylang, SINGAPORE, have been added as parties to this venture.

Also, Grid2Home, San Diego, CA; Ping Identity, Denver, CO; Quanta Computer Inc., Kuei Shan, Tao Yuan, TAIWAN; and Verisign Inc., Reston, VA, have withdrawn as parties to this venture.

No other changes have been made in either the membership or planned activity of the group research project. Membership in this group research project remains open, and AllSeen Alliance intends to file additional written notifications disclosing all changes in membership.

On January 29, 2014, AllSeen Alliance filed its original notification pursuant to Section 6(a) of the Act. The Department of Justice published a notice in the Federal Register pursuant to Section 6(b) of the Act on March 4, 2014 (79 FR 12223).

The last notification was filed with the Department on September 23, 2015. A notice was published in the Federal Register pursuant to Section 6(b) of the Act on October 23, 2015 (80 FR 64449).

Patricia A. Brink,
Director of Civil Enforcement, Antitrust Division.

[FR Doc. 2016-01257 Filed 1-21-16; 8:45 am]

BILLING CODE P